DEPARTMENT OF DEFENSE

Office of the Secretary

Renewal of Department of Defense Federal Advisory Committees

AGENCY: Department of Defense.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Board on Coastal Engineering Research (hereafter referred to as the Board).

The Board is a non-discretionary Federal advisory committee established by the Secretary of Defense to provide the Department of Defense, the Coastal Engineering Research Center, the Chief of Engineers, and the U.S. Army Corps of Engineers independent advice and recommendations on reports of investigations made concerning shore erosion on coastal and lake waters, and the protection of such shores. The Board, in accomplishing its mission: (a) Recommended the priorities and allocation of funds for coastal projects and research and development (R&D); (b) created major programs in areas such as education/training, environment, and technology transfer; (c) developed the Regional Sediment Management Program, the Shore Protection Project Performance Program and the National Shoreline Erosion Control Development and Demonstration Program; and (d) led the international effort to create an open source, physics-based numerical model of regional storm characteristics and impacts.

The Board shall be composed of not more than 7 members, who are distinguished authorities in the field of coastal engineering. Board members appointed by the Secretary of Defense, who are not Federal officers or employees, shall be appointed as experts and consultants under the authority of 5 U.S.C. 3109 and with the exception of travel and per-diem for official travel. The Secretary of the Army, pursuant to 33 U.S.C 462-2, may compensate Board Members who are not full-time Federal officers or employees for each day of attendance at Board Meetings, not to exceed thirty days per year. Board Members shall be appointed on an annual basis and serve two-year terms on the Board. The Secretary of the Army or designee shall select the Board President.

The Board shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Board, and shall report all their recommendations and advice to the Board for full deliberation and discussion. Subcommittees or workgroups have no authority to make decisions on behalf of the chartered Board nor can they report directly to the Department of Defense or any federal officers or employees who are not Board members.

FOR FURTHER INFORMATION CONTACT: Contact Jim Freeman, Deputy Committee Management Officer for the Department of Defense, 703-601-6128.

SUPPLEMENTARY INFORMATION: The Board shall meet at the call of the Board's Designated Federal Officer, in consultation with the Board's chairperson. The Designated Federal Officer, pursuant to DoD policy, shall be a full-time or permanent part-time DoD employee, and shall be appointed in accordance with established DoD policies and procedures. The Designated Federal Officer or duly appointed Alternate Designated Federal Officer shall attend all Board meetings and subcommittee meetings.

Pursuant to 41 CFR 102-3.105(j) and 102-3.140, the public or interested organizations may submit written statements to the Board on Coastal Engineering Research membership about the Board's mission and functions. Written statements may be submitted at any time or in response to the stated agenda of planned meeting of the Board on Coastal Engineering Research.

All written statements shall be submitted to the Designated Federal Officer for the Board on Coastal Engineering Research, and this individual will ensure that the written statements are provided to the membership for their consideration. Contact information for the Board on Coastal Engineering Research's Designated Federal Officer can be obtained from the GSA's FACA Database— https://www.fido.gov/facadatabase/public.asp.

The Designated Federal Officer, pursuant to 41 CFR 102-3.150, will announce planned meetings of the Board on Coastal Engineering Research. The Designated Federal Officer, at that time, may provide additional guidance on the submission of written statements that are in response to the stated agenda for the planned meeting in question.

Dated: September 3, 2008.
Patricia L. Toppings,
OSD Federal Register Liaison Officer, Department of Defense.

[FR Doc. E8-21090 Filed 9-10-08; 8:45 am]

BILLING CODE 5001-06-P